DEPARTMENT OF COMMERCE

National Oceanic and Atmospheric Administration

RIN 0648-XV035

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Personnel Committee/Committee of the Whole (Closed Session); Snapper Grouper Committee; Protected Resources Committee; Dolphin Wahoo Committee; Executive Finance Committee; Habitat Protection and Ecosystem-Based Management Committee; Joint Habitat Ecosystem, Shrimp, and Golden Crab Committee; and Mackerel Cobia Committee. The Council meeting week will include a training session for Council members on Robert's Rules, a formal public comment period, and a meeting of the full Council.

DATES: The Council meeting will be held from 8:30 a.m. on Monday, September 16, 2019 until 1 p.m. on Friday, September 20, 2019.

ADDRESSES: Meeting address: The meeting will be held at the Town and Country Inn, 2008 Savannah Highway, Charleston, SC 29407; phone: (843) 571-1000.

Council address: South Atlantic Fishery Management Council, 4055 Faber Place Drive, Suite 201, N Charleston, SC 29405.

FOR FURTHER INFORMATION CONTACT: Kim Iverson, Public Information Officer, SAFMC; phone: (843) 302-8440 or toll free: (866) SAFMC-10; fax: (843) 769-4520; email: kim.iverson@safmc.net. Meeting information is available from the Council's website at: http://safmc.net/safmc-meetings/council-meetings/.

SUPPLEMENTARY INFORMATION: Public comment: Written comments may be directed to Gregg Waugh, Executive Director, South Atlantic Fishery Management Council (see ADDRESSES) or electronically via the Council's website at http://safmc.net/safmc-meetings/council-meetings/. Comments received by close of business the Monday before the meeting (9/9/19) will be compiled, posted to the website as part of the meeting materials, and included in the administrative record; please use the Council's online form available from the website. For written comments received after the Monday before the meeting (after 9/9/19), individuals submitting a comment must use the Council's online form available from the website. Comments will automatically be posted to the website and available for Council consideration. Comments received prior to noon on Thursday, September 19, 2019 will be a part of the meeting administrative record.

The items of discussion in the individual meeting agendas are as follows:

Robert's Rules Training—Monday, September 16, 2019, 8:30 a.m. Until 12 p.m.

1. Council members will receive training on the use of Robert's Rules for meeting purposes.

Personnel Committee/Committee of the Whole—Monday, September 16, 2019, 1:30 p.m. Until 6 p.m. (Closed Session)

1. The Committee/Council will discuss personnel issues and provide guidance to staff.

2. The Committee/Council will conduct executive director interviews and select a new executive director.

Snapper Grouper Committee, Tuesday, September 17, 2019, 8:30 a.m. Until 5:30 p.m.

1. The Committee will receive updates from NOAA Fisheries on commercial catches versus quotas for species under annual catch limits (ACLs) and the status of amendments under formal Secretarial review.

2. The Committee will receive preliminary results from the August 19-21, 2019 Scientific and Statistical Committee (SSC)/Marine Recreational Information Program (MRIP) Workshop to address issues with recreational data.

3. The Committee will review Regulatory Framework Amendment 29 to the Snapper Grouper Fishery Management Plan (FMP) addressing best fishing practices and the use of powerhead gear, discuss outreach needs, and consider recommendation for Council approval for formal Secretarial Review.

4. The Committee will receive an update on Snapper Grouper Abbreviated Framework Amendment 3 addressing management of blueline tilefish and take action as needed.

5. The Committee will review the Wreckfish Individual Transferable Quota (ITQ) Review document and consider recommending approval for formal Secretarial review.

6. The Committee will review Snapper Grouper Regulatory Amendment 33 addressing season modifications for red snapper, consider public hearing comments, select preferred alternatives, and provide guidance to staff as needed.

7. The Committee will review Snapper Grouper Regulatory Amendment 34 addressing Special Management Zones (SMZs) for North Carolina and South Carolina and consider recommending the amendment for public hearings.

8. The Committee will provide guidance on agenda items for the upcoming Snapper Grouper Advisory Panel meeting, review the draft 2021-2026 Vision Blueprint for the Snapper Grouper Fishery, and a white paper on authorized gear for harvesting lionfish and take action as necessary.

Protected Resources Committee, Wednesday, September 18, 2019, 8 a.m. Until 8:30 a.m.

1. The Committee will receive an overview of the Memorandum of Understanding (MOU) between the Council and NOAA Fisheries, discuss and take action as needed.

2. The Committee will receive updates on Biological Opinions for Dolphin Wahoo and Highly Migratory Species Fisheries, updates on other Protected Resources issues, and take action as needed.

Dolphin Wahoo Committee, Wednesday, September 18, 2019, 8:30 a.m. Until 3:45 p.m.

1. The Committee will receive updates from NOAA Fisheries on the status of commercial catches versus annual catch limits.

2. The Committee will receive a report from the Dolphin Wahoo Advisory Panel, discuss recommendations, and take action as necessary.

3. The Committee will review the goals and objectives of the Dolphin Wahoo FMP and provide guidance to staff. The Committee will also review Amendment 10 to the Dolphin Wahoo FMP. Draft Amendment 10 currently includes actions to revise annual catch limits, sector allocations, and accountability measures, and options to reduce the vessel limit for dolphin. The amendment would also remove Operator Card requirements; modify gear, bait, and training requirements in the commercial longline fishery for dolphin and wahoo to align with Highly Migratory Species requirements; and other measures. The Committee will review actions in the draft amendment and consider approving for public scoping.

4. The Committee will review draft Amendment 12 with measures to add bullet mackerel and frigate mackerel as Ecosystem Component species to the Dolphin Wahoo FMP, consider appropriate regulatory actions, and provide guidance to staff.

Executive Finance Committee—Wednesday, September 18, 2019, 3:45 p.m. until 4 p.m. and Thursday, September 19, 2019, 3:30 p.m. Until 5 p.m.

1. The Committee will consider ranking of amendments for the Council's work schedule and provide guidance to staff.

2. The Committee will receive a report from the November 2019 meeting of the Council Coordination Committee (CCC) and an update on the Magnuson-Stevens Reauthorization, discuss and provide guidance to staff.

3. The Committee will receive an update on the status of the Calendar Year (CY) 2019 Budget, discuss and take action as necessary.

4. The Committee will review a prioritization schedule for work on amendments, discuss and provide guidance to staff.

Formal Public Comment, Wednesday, September 18, 2019, 4 p.m.—Public comment will be accepted on items on the Council meeting agenda scheduled to be approved for Secretarial Review: Snapper Grouper Regulatory Amendment 29 (Best Practices and Powerheads) and the Wreckfish ITQ Review document. Public comment will also be accepted on items for scoping/public hearings and all other agenda items. The Council Chair, based on the number of individuals wishing to comment, will determine the amount of time provided to each commenter.

Habitat Protection and Ecosystem-Based Management Committee, Thursday, September 19, 2019, 8:30 a.m. Until 10 a.m.

1. The Committee will receive an overview of Council actions relevant to Habitats and Ecosystems, review the Habitat Protection and Ecosystem-Based Management Advisory Panel Report, discuss and take action as needed.

Joint Habitat Protection and Ecosystem-Based Management Committee, Shrimp Committee, and Golden Crab Committee Meeting, Thursday, September 19, 2019, 10 a.m. Until 12 p.m.

1. The Committees will review a comprehensive amendment (Coral Amendment 10/Shrimp Amendment 11/Golden Crab Amendment 10) addressing access to managed areas, transit provisions, and options for vessel monitoring systems (VMS) for the golden crab fishery, discuss and consider approval for public scoping.

Mackerel Cobia Committee, Thursday, September 19, 2019, 1:30 p.m. Until 3:30 p.m.

1. The Committee will receive an update on the status of commercial catches versus ACLs and the status of amendments under formal Secretarial review.

2. The Committee will receive an overview of Framework Amendment 8 to the Coastal Migratory Pelagic FMP addressing king mackerel commercial trip limits in Season 2 in the Atlantic Southern Zone, review analyses, select preferred alternatives, and consider approving for public hearings.

3. The Committee will review a white paper to address Spanish mackerel closures in the Atlantic Northern Zone and other management measures, discuss possible port meetings for the king and Spanish mackerel fisheries, and take action as necessary.

4. The Committee will review a Gulf of Mexico Fishery Management Council Framework action to modify federal for-hire trip limits in the Gulf reef fish and Coastal Migratory Pealgics fisheries, discuss and take action as necessary.

5. The Committee will also discuss agenda items for the upcoming Mackerel Cobia Advisory Panel meeting, provide direction to staff, and take action as necessary.

Council Session: Friday, September 20, 2019, 8:30 a.m. Until 1 p.m. (Partially Closed Session if Needed)

The Full Council will begin with the Call to Order, adoption of the agenda, approval of minutes, and presentations for the 2018 Law Enforcement of the Year award and Council staff recognition.

The Council will receive a Legal Briefing on Litigation from NOAA General Counsel (if needed) during Closed Session. The Council will receive staff reports including the Executive Director's Report, and updates on the MyFishCount pilot project and the Council's Citizen Science Program.

Updates will be provided by NOAA Fisheries including a report on the status of commercial catches versus ACLs for species not covered during an earlier committee meeting, the Southeast Geographic Strategic Plan, data-related reports (for-hire amendment and bycatch), update on the status of the of the Commercial Electronic Logbook Program, and the status of the Marine Recreational Information Program (MRIP) conversions for recreational fishing estimates. The Council will discuss and take action as necessary.

The Council will review any Exempted Fishing Permits received as necessary.

The Council will receive reports from the following committees: Snapper Grouper; Mackerel Cobia; Protected Resources; Dolphin Wahoo; Habitat Protection and Ecosystem-Based Management; Joint Habitat/Shrimp/Golden Crab; Executive Finance; and Personnel. The Council will take action as appropriate.

The Council will receive agency and liaison reports; and discuss other business and upcoming meetings and take action as necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 22, 2019.
Tracey L. Thompson,
Acting Deputy Director, Office of Sustainable Fisheries, National Marine Fisheries Service.

[FR Doc. 2019-18459 Filed 8-26-19; 8:45 am]

BILLING CODE 3510-22-P